NUCLEAR REGULATORY COMMISSION

[Docket Nos. 50-247-LR and 50-286-LR; ASLBP No. 07-858-03-LR-BD01]

Entergy Nuclear Operations, Inc., (Indian Point Nuclear Generating Units 2 and 3); Notice of Atomic Safety and Licensing Board Reconstitution

Pursuant to 10 CFR 2.313(c) and 2.321(b), the Atomic Safety and Licensing Board (Board) in the above-captioned Indian Point proceeding is hereby reconstituted by appointing Administrative Judge Michael F. Kennedy to serve on the Board in place of Administrative Judge Kaye D. Lathrop.

All correspondence, documents, and other materials shall continue to be filed in accordance with the NRC E-Filing rule. See 10 CFR 2.302 et seq.

Issued at Rockville, Maryland, this 9th day of April 2012.
E. Roy Hawkens,
Chief Administrative Judge, Atomic Safety and Licensing Board Panel.

[FR Doc. 2012-8896 Filed 4-12-12; 8:45 am]

BILLING CODE 7590-01-P